DEPARTMENT OF TRANSPORTATION

Federal Aviation Administration

14 CFR Part 71

[Airspace Docket No. 00-ASO-3

Amendment to Class D and Class E Airspace, Tupelo, MS

AGENCY: Federal Aviation Administration (FAA), DOT.

ACTION: Final rule.

SUMMARY: This amendment changes the name of Tupelo Municipal—C.D. Lemons Municipal Airport to Tupelo Regional Airport and changes the title of the airspace designation for the Tupelo Regional Airport located at Tupelo, MS, from Tupelo Municipal—C.D. Lemons Municipal Airport to Tupelo Regional Airport.

EFFECTIVE DATE: 0901 UTC, April 20, 2000.

FOR FURTHER INFORMATION CONTACT: Nancy B. Shelton, Manager, Airspace Branch, Air Traffic Division, Federal Aviation Administration, P.O. Box 20636, Atlanta, Georgia 30320; telephone (404) 305-5627.

SUPPLEMENTARY INFORMATION:

History

The Tupelo, MS, Airport Authority has changed the name of the airport to better describe the area served. This amendment is necessary to reflect that change. The dimensions, configuration and operating requirements of the affected airspace do not change. This rule will become effective on the date specified in the DATES section. Since this action does not change the dimensions, configuration or operating requirements of the Class D, Class E2 or Class E5 airspace for the airport, and as a result, has no impact on users of the airspace in the vicinity of the Tupelo Regional Airport, notice and public procedure under 5 U.S.C. 553(b) are unnecessary. Designations for class D, Class E2 and Class E5 airspace areas extending upward from 700 feet or more above the surface are published in FAA Order 7400.9G, dated September 1, 1999, and effective September 16, 1999, which is incorporated by reference in 14 CFR part 71.1. The Class D and E airspace designations listed in this document will be published subsequently in the Order.

The Rule

This amendment to part 71 of the Federal Aviation Regulations (14 CFR part 71) changes the name of Tupelo Municipal—C.D. Lemons Municipal Airport and changes the title of the airspace designation for the Tupelo Regional Airport located at Tupelo, MS, from Tupelo Municipal—C.D. Lemons Municipal Airport, MS, to Tupelo Regional Airport. MS.

The FAA has determined that this regulation only involves an established body of technical regulations for which frequent and routine amendments are necessary to keep them operationally current. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR Part 71 as follows:

PART 71—[AMENDED]

1. The authority citation for 14 CFR Part 71 continues to read as follows:

Authority: 49 U.S.C. 106(g); 40103, 40113, 40120; EO 10854, 24 FR 9565, 3 CFR, 1959-1963 Comp., p. 389; 14 CFR 11.69.

§ 71.1 [Amended]

2. The incorporation by reference in 14 CFR 71.1 of Federal Aviation Administration Order 7400.9G, Airspace Designations and Reporting Points, dated September 1, 1999, and effective September 16, 1999, is amended as follows:

Paragraph 5000 Class D Airspace.

* * * * *

ASO MS D Tupelo, MS [Revised]

Tupelo Regional Airport, MS

(Lat. 34°16′05″ N, long. 88°46′12″ W)

That airspace extending upward from the surface to and including 2,800 feet MSL within a 4.1-mile radius of Tupelo Regional Airport. This Class D airspace area is effective during the specific days and times established in advance by a Notice to Airmen. The effective days and times will thereafter be continuously published in the Airport/Facility Directory.

* * * * *

Paragraph 6002 Class E Airspace Designated as Surface Area.

* * * * *

ASO MS E2 Tupelo, MS

Tupelo Regional Airport, MS

(Lat. 34°16′05″ N, long. 88°46′12″ W)

Within a 4.1-mile radius of Tupelo Regional Airport. This Class E airspace area is effective during the specific days and times established in advance by a Notice to Airmen. The effective days and times will thereafter be continuously published in the Airport/Facility Directory.

* * * * *

Paragraph 6005 Class E Airspace Areas Extending Upward from 700 feet or More above the Surface of the Earth.

* * * * *

ASO MS E5 Tupelo, MS

Tupelo Regional Airport, MS

(Lat. 34°16′05″ N, long. 88°46′12″ W)

That airspace extending upward from 700 feet above the surface within a 6.6-mile radius of Tupelo Regional Airport.

* * * * *

Issued in College Park, Georgia, on January 31, 2000.
Nancy B. Shelton,
Acting Manager, Air Traffic Division, Southern Region.

[FR Doc. 00-2958 Filed 2-8-00; 8:45 am]

BILLING CODE 4910-13-M